DEPARTMENT OF VETERANS AFFAIRS

38 CFR Part 17

RIN 2900-AO27

Exempting In-Home Video Telehealth From Copayments

AGENCY: Department of Veterans Affairs.

ACTION: Withdrawal of proposed rule.

SUMMARY: The Department of Veterans Affairs (VA) is withdrawing VA's proposed rulemaking, published in the Federal Register on March 6, 2012, to amend its regulation that governs VA services that are not subject to copayment requirements for inpatient hospital care or outpatient medical care. Specifically, the regulation exempted in-home video telehealth care from having any required copayment. VA received no significant adverse comments concerning the proposed rule or its companion substantially identical direct final rule published on the same date in the Federal Register. In a companion document in this issue of the Federal Register, we are confirming that the direct final rule became effective on May 7, 2012. Accordingly, this document withdraws as unnecessary the proposed rule.

DATES: The proposed rule is withdrawn as of September 25, 2012.

FOR FURTHER INFORMATION CONTACT: Kristin J. Cunningham, Director Business Policy, Chief Business Office, Department of Veterans Affairs, 810 Vermont Ave. NW., Washington, DC 20420; (202) 461-1599. (This is not a toll-free number.)

SUPPLEMENTARY INFORMATION: In a proposed rule published in the Federal Register on March 6, 2012, 77 FR 13236, VA proposed to amend 38 CFR 17.108 to eliminate co-payments for in-home video telehealth. Additionally, VA published a companion substantially identical direct final rule at 77 FR 13195 on the same date. The direct final rule and proposed rule each provided a 30-day comment period that ended on April 5, 2012. No adverse comments were received. Two comments that supported the rulemaking were received from members of the general public.

Because no significant adverse comments were received within the comment period, VA is withdrawing the proposed rule as unnecessary. In a companion document in this issue of the Federal Register, VA is confirming the effective date of the direct final rule, RIN 2900-AO26, published at 77 FR 13195.

Signing Authority

The Secretary of Veterans Affairs, or designee, approved this document and authorized the undersigned to sign and submit the document to the Office of the Federal Register for publication electronically as an official document of the Department of Veterans Affairs. John R. Gingrich, Chief of Staff, Department of Veterans Affairs, approved this document on September 18, 2012, for publication.

Dated: September 19, 2012.
Robert C. McFetridge,
Director, Office of Regulation Policy and Management, Office of the General Counsel, Department of Veterans Affairs.

[FR Doc. 2012-23514 Filed 9-24-12; 8:45 am]

BILLING CODE 8320-01-P